ENVIRONMENTAL PROTECTION AGENCY

[FRL-6974-9]

Agency Information Collection Activities: Proposed Collection; Comment Request; Urban Bus Retrofit/Rebuild Requirements, Importation of Nonconforming Marine Engines, Locomotive Certification

AGENCY: Environmental Protection Agency (EPA).

ACTION: Notice.

SUMMARY: In compliance with the Paperwork Reduction Act (44 U.S.C. 3501 et seq.), this document announces that EPA is planning to submit the following continuing Information Collection Requests (ICRs) to the Office of Management and Budget (OMB): Retrofit/Rebuild Requirements for 1993 and Earlier Model Year Urban Buses, EPA ICR Number 1702.03, OMB Control Number 2060-0302, expiration date: 9/30/01, renewal; Information Requirements for Importation of Nonconforming Marine Engines, EPA ICR Number 1723.03, OMB Control Number 2060-0320, expiration date: 9/30/01, renewal; Application for Emission Certification for Locomotives and Locomotive Engines, EPA ICR Number 1800.02, OMB Control Number 2060-0392, expiration date: 9/30/01, renewal. Before submitting the ICR to OMB for review and approval, EPA is soliciting comments on specific aspects of the proposed information collection as described below.

DATES: Comments must be submitted on or before July 9, 2001.

ADDRESSES: Office of Transportation and Air Quality, Certification and Compliance Division, Engine Programs Group, 1200 Pennsylvania Avenue, NW., Mail Code 6403J, Washington, DC 20460. Interested persons may request a copy of the ICRs without charge from the contact person below.

FOR FURTHER INFORMATION CONTACT: Nydia Y. Reyes-Morales, tel.: (202) 564-9264; fax: (202) 565-2057; or e-mail: reyes-morales.nydia@epa.gov.

SUPPLEMENTARY INFORMATION: Affected entities: Entities potentially affected by this action are: (1) Urban bus retrofit equipment manufacturers, equipment suppliers and bus engine manufacturers; (2) individuals and businesses importing marine engines; and (3) locomotive manufacturers and remanufacturers, and railroads.

Title: Retrofit/Rebuild Requirements for 1993 and Earlier Model Year Urban Buses, (OMB Control No. 2060-0302; EPA ICR No. 1702.03) expiring 9/30/01.

Abstract: Section 219 of the Clean Air Act (CAA) requires urban buses to be retrofitted to comply with an emission standard that reflects the best retrofit technology and maintenance practices reasonably achievable. EPA regulations found at 40 CFR Part 85 require that, when a bus engine is rebuilt or replaced, the particular matter (PM) emissions level of the engine be reduced to a level below the engine's original PM level by using certified retrofit/rebuild equipment. If no equipment is certified for a particular engine, the operator is required to restore the equipment to its original or updated configuration based on the currently available rebuild kits on the market.

Retrofit equipment manufacturers are required to submit an application for certification with information about their product's characteristics and cost, among other information items. Bus operators are also required to provide information about their fleet to demonstrate compliance.

Title: Information Requirements for Importation of Nonconforming Marine Engines, (OMB Control No. 2060-0320; EPA ICR No. 1723.03) expiring 9/30/01.

Abstract: Sections 208 and 213 of the CAA requires that nonroad engines imported into the US conform with applicable emission requirements. Persons or entities importing marine engines into the US are required to complete a form and provide some data about the engine they want to import to ensure that the engine can be legally imported. The requirements in this ICR affect outboard marine engines, personal watercraft and non-drive compression-ignition engines used on marine vessels.

Title: Application for Emission Certification for Locomotives and Locomotive Engines, (OMB Control No. 2060-0392; EPA ICR No. 1800.02) expiring 9/30/01.

Abstract: Section 213 of the CAA requires that new locomotives and new engines used in locomotives be certified before they can be legally introduced into US commerce. Manufacturers are required to submit information such as engine family, rebuild system type, total number of locomotives or engines manufactured or remanufactured, megawatt hours or miles at remanufacture, and emissions rates for specific pollutants in their applications for certification. Information is needed to demonstrate compliance with emissions standards when a locomotive is manufactured, during use, and at each remanufacturing or upgrading event.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Table I.—Burden Statement
| Urban bus retrofit | Maraine imports | Locomotive certification
Estimated Average Burden Hours/response | 10 | 1 | 2,719
Frequency | On Occasion | On Occasion | Annually
Number of respondents | 165 | 1,000 | 20
Total Cost | 232,000 | 77,500 | 5,800,000
Capital and Start Up Cost | 125,000 | 0 | 3,600,000
Operation/ Maintenance Costs | 60,000 | 0 | 0
Purchase of Services Cost | 0 | 0 | 0

Burden means the total time, effort, or financial resources expended by persons to generate, maintain, retain, disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 27, 2001.
Robert D. Brenner,
Acting Assistant Administrator for Air and Radiation.

[FR Doc. 01-11523 Filed 5-7-01; 8:45 am]

BILLING CODE 6560-50-P